DEPARTMENT OF JUSTICE

Notice of Lodging of Consent Decree Pursuant to the Comprehensive Environmental Response Compensation and Liability Act and the Solid Waste Disposal Act

Notice is hereby given that a proposed consent decree in the action entitled United States v. Ambroid Company, Inc., Civil Action No. 97-11377-JLT, was lodged on January 13, 2000, with the United States District Court for the District of Massachusetts. The proposed consent decree resolves the claims of the United States against J. Frank Strauss and Robert M. Kuzara in a complaint filed against these parties, and several others, pursuant to Section 107 of the Comprehensive Environmental Response, Compensation, and Liability Act (“CERCLA”), 42 U.S.C. § 9607. In the complaint, which was filed on June 17, 1997, the United States sought the recovery of past unreimbursed response costs incurred by the United States in connection with a drum removal action performed at the Yankee Chemical Superfund Site, located at 600 West Water Street, in Taunton, Massachusetts (the “Site”). The settlement also resolves the claims of the United States against Bank Hapoalim, B.M., a third-party defendant in the action. Pursuant to the proposed settlement, the Settling Defendants will reimburse the EPA Hazardous Substance Superfund in the amount of $50,000. The United States has provided a covenant not to sue under Sections 106 and 107 of CERCLA, 42 U.S.C. §§ 9606 and 9607, as well as pursuant to Section 7003 of the Solid Waste Disposal Act, 42 U.S.C. § 6973, with respect to the site.

The Department of Justice will receive, for a period of thirty (30) days from the date of this publication, comments relating to the proposed consent decree. Any comments should be addressed to the Assistant Attorney General for the Environment and Natural Resources Division, Department of Justice, Washington, D.C. 20530, and should refer to United States v. Amoroid Company, Inc., DOJ Ref. Number 90-11-3-1747. Commenters may request an opportunity for a public meeting in the affected area, in accordance with Section 7003(d) of the Solid Waste Disposal Act, 42 U.S.C. § 6973(d).

The proposed consent decree may be examined at EPA Region 1, located at One Congress Street, Suite 1100, Boston, MA 02114 (contact Peter DeCambre, 617-918-1890). A copy of the proposed consent decree may be obtained by mail from the Department of Justice Consent Decree Library, P.O. Box 7611, Washington, D.C. 20044. In requesting a copy, please refer to the referenced case and enclose a check in the amount of $7.25 (25 cents per page reproduction costs).

Joel M. Gross,
Section Chief, Environmental Enforcement Section, Environment and Natural Resources Division.

[FR Doc. 00-1645 Filed 1-21-00; 8:45 am]

BILLING CODE 4410-15-M